DEPARTMENT OF TRANSPORTATION

Federal Aviation Administration

Twenty Fourth Meeting: RTCA Special Committee 217—Aeronautical Databases Joint With EUROCAE WG-44—Aeronautical Databases

AGENCY: Federal Aviation Administration (FAA), U.S. Department of Transportation (DOT).

ACTION: Notice of RTCA Special Committee 217—Aeronautical Databases Joint with EUROCAE WG-44—Aeronautical Databases.

SUMMARY: The FAA is issuing this notice to advise the public of a meeting of RTCA Special Committee 217—Aeronautical Databases being held jointly with EUROCAE WG-44—Aeronautical Databases.

DATES: The meeting will be held June 15 to 19, 2015 from 9:00 a.m. to 5:00 p.m.

ADDRESSES: The meeting will be hosted by RTCA, 1150 18th St. NW., Suite 910, Washington, DC.

FOR FURTHER INFORMATION CONTACT: Sophie Bousquet, SBousquet@rtca.org, 202-330-0663 or The RTCA Secretariat, 1150 18th Street NW., Suite 910, Washington, DC, 20036, or by telephone at (202) 833-9339, fax at (202) 833-9434, or Web site at http://www.rtca.org.

SUPPLEMENTARY INFORMATION: Pursuant to section 10(a) (2) of the Federal Advisory Committee Act (Pub. L. 92-463, 5 U.S.C., App.), notice is hereby given for a meeting of RTCA Special Committee 217—Aeronautical Databases held jointly with EUROCAE WG-44—Aeronautical Databases. The agenda will include the following:

June 15th-June 19th (0900-1700 EDT)

Opening Plenary Session

• Co-Chairmen's remarks and introductions

• Approve minutes from 23rd meeting

• Review and approve meeting agenda for 24th meeting

• ED-76A—DO-200B progress status

• Discussion on the outcome of DO-201A/ED-77 Scoping Exercise

• Schedule and working arrangements for this week

FRAC and Open Consultation Resolution

• DO-272/ED-99, DO-276/ED-98, DO-291/ED-119—FRAC and Open Consultation Resolution

○ Overview of comments received—by FRAC Preparation Team

○ Resolution of individual comments by priority

○ Summary of FRAC resolution

• Action Plan to get the final document draft copies to RTCA and EUROCA

June 19th (0130-1700 EDT)

• Approval of Documents for the PMC/TAC Meeting in September 2015

• Next meetings, ToRs, dates, locations

• Any other business and Adjourn

Pre-registration for the meeting itself is required, if you have not already done so, please provide your information to Sophie Bousquet, sbousquet@rtca.org. Persons wishing to present statements or obtain information should contact the person listed in the FOR FURTHER INFORMATION CONTACT section. Members of the public may present a written statement to the committee at any time.

Issued in Washington, DC, on May 28, 2015.
Mohannad Dawoud,
Management Analyst, Program Oversight and Administration, ANG-A15, Federal Aviation Administration.

[FR Doc. 2015-13387 Filed 6-1-15; 8:45 am]

BILLING CODE 4910-13-P